DEPARTMENT OF ENERGY

National Nuclear Security Administration

Advisory Committee for Nuclear Security

AGENCY: Department of Energy, National Nuclear Security Administration.

ACTION: Notice of closed meeting.

SUMMARY: This notice announces a closed meeting of the Advisory Committee for Nuclear Security (ACNS). The Federal Advisory Committee Act requires that public notice of meetings be announced in the Federal Register. Due to national security considerations, the meeting will be closed to the public and matters to be discussed are exempt from public disclosure under Executive Order 13526, and the Atomic Energy Act of 1954.

DATES: May 11, 2023; 9:00 a.m. to 5:00 p.m.

ADDRESSES: Microsoft Teams Video Conferencing.

FOR FURTHER INFORMATION CONTACT: Ms. Watti Hill, Office of Strategic Partnerships & Engagements, National Nuclear Security Administration, U.S. Department of Energy, 1000 Independence Ave. SW, Washington, DC 20585, (202) 586-8266; watti.hill@nnsa.doe.gov.

SUPPLEMENTARY INFORMATION:

Background: The ACNS provides advice and recommendations to the Under Secretary Nuclear Security & Administrator, NNSA on topics related to the stewardship, governance, and maintenance of the Nation's nuclear deterrent; nuclear security; nonproliferation; counterterrorism; counterproliferation; and other activities and operations of NNSA, as the Administrator may direct.

Purpose of the Meeting: The Quarterly meeting of the Advisory Committee for Nuclear Security (ACNS) will cover the current status of Committee activities as well as additional charges and is expected to contain discussions of a sensitive nature.

Type of Meeting: In the interest of national security, the meeting will be closed to the public. The Federal Advisory Committee Act, 5 U.S.C. App. 2, section 10(d), and the Federal Advisory Committee Management Regulation, 41 CFR 102-3.155, incorporate by reference the Government in the Sunshine Act, 5 U.S.C. 552b, which, at 552b(c)(1) and (c)(3) permits closure of meetings where restricted data or other classified matters will be discussed.

Tentative Agenda: Welcome; Headquarters and ACNS Updates; discussion of reports and current reviews; discussion of next charges; NNSA leadership out brief; conclusion.

Public Participation: There will be no public participation in this closed meeting. Those wishing to provide written comments or statements to the Committee are invited to send them to Ms. Watti Hill at the address listed above.

Minutes: The minutes of the meeting will not be available.

Signed in Washington, DC, on April 18, 2023.
LaTanya Butler,
Deputy Committee Management Officer.

[FR Doc. 2023-08541 Filed 4-21-23; 8:45 am]

BILLING CODE 6450-01-P